DEPARTMENT OF THE INTERIOR

National Park Service

[NPS-WASO-NAGPRA-NPS0036124; PPWOCRADN0-PCU00RP14.R50000]

Notice of Intent To Repatriate Cultural Items: High Desert Museum, Bend, OR

AGENCY: National Park Service, Interior.

ACTION: Notice.

SUMMARY: In accordance with the Native American Graves Protection and Repatriation Act (NAGPRA), the High Desert Museum intends to repatriate certain cultural items that meet the definition of unassociated funerary objects and that have a cultural affiliation with the Indian Tribes or Native Hawaiian organizations in this notice. The cultural items were removed from Wasco County, OR, and Klickitat County, WA.

DATES: Repatriation of the cultural items in this notice may occur on or after August 7, 2023.

ADDRESSES: Michelle Seiler, High Desert Museum, 59800 South Hwy. 97, Bend, OR 97702, telephone (541) 382-4754 Ext. 376, email michelle@highdesertmuseum.org.

SUPPLEMENTARY INFORMATION: This notice is published as part of the National Park Service's administrative responsibilities under NAGPRA. The determinations in this notice are the sole responsibility of High Desert Museum. The National Park Service is not responsible for the determinations in this notice. Additional information on the determinations in this notice, including the results of consultation, can be found in the summary or related records held by High Desert Museum.

Description

Forty-nine cultural items were removed from Wasco County, OR. These cultural items were removed from Memaloose Island by Sue Frewing, who accompanied her father there as a child. According to Frewing, at that time, the entire island was fully accessible by boat, as The Dalles Dam had not yet been constructed. On March 31, 1986, these cultural items were donated to the High Desert Museum by Sue Frewing. The 49 unassociated funerary objects are five cylindrical beads, one disk shaped bead, one brass bead, two strings of beads, five animal teeth or claws, one awl, one piece of leather with brass tacks, one piece of wood with brass tack, two rusted nails, one piece of a buckle, two brass buttons, 16 brass tacks, one piece of wood, one piece of green fabric, one Dentalium shell, and eight shells with sand.

Three lots of cultural items were removed from Wasco County, OR, and Klickitat County, WA. Around 1960, Erna Mader Rose removed these cultural items from Memaloose Island in either Wasco County, OR, or Klickitat County, WA. On July 6, 1994, Marian M. Campbell, acting as Erna Rose's executrice, donated them to the High Desert Museum. The three lots of unassociated funerary objects are one lot consisting of a Riker mount with seed and shell beads, rolled copper fragments, dentalium, carved wood or bone fragment; one lot consisting of glass beads; and one lot consisting of shell and bone beads.

Ten cultural items were removed from Wasco County, OR. In 1961, Erna Mader Rose removed these cultural items from the Bead Patch Site next to The Dalles Bridge. On July 6, 1994, Marian M. Campbell, acting as Erna Rose's executrice, donated them to the High Desert Museum. The 10 unassociated funerary objects are six stone point fragments; two stone projectile points; one stone drill; and one stone bead.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and oral traditional.

Determinations

Pursuant to NAGPRA and its implementing regulations, and after consultation with the appropriate Indian Tribes and Native Hawaiian organizations, the High Desert Museum has determined that:

• The 62 cultural items described above are reasonably believed to have been placed with or near individual human remains at the time of death or later as part of the death rite or ceremony and are believed, by a preponderance of the evidence, to have been removed from a specific burial site of a Native American individual.

• There is a relationship of shared group identity that can be reasonably traced between the cultural items and the Confederated Tribes and Bands of the Yakama Nation; Confederated Tribes of the Umatilla Indian Reservation; Confederated Tribes of the Warm Springs Reservation of Oregon; and the Nez Perce Tribe.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 7, 2023. If competing requests for repatriation are received, High Desert Museum must determine the most appropriate requestor prior to repatriation. Requests for joint repatriation of the cultural items are considered a single request and not competing requests. High Desert Museum is responsible for sending a copy of this notice to the Indian Tribes identified in this notice.

Authority: Native American Graves Protection and Repatriation Act, 25 U.S.C. 3003, and the implementing regulations, 43 CFR 10.8, 10.10, and 10.14.

Dated: June 28, 2023.
Melanie O'Brien,
Manager, National NAGPRA Program.

[FR Doc. 2023-14380 Filed 7-6-23; 8:45 am]

BILLING CODE 4312-52-P